MEDICARE PAYMENT ADVISORY COMMISSION

Commission Meeting

AGENCY: Medicare Payment Advisory Commission.

ACTION: Notice of meeting.

SUMMARY: The Commission will hold its next public meeting on Thursday, April 21, 2005, and Friday, April 22, 2005, at the Ronald Reagan Building, International Trade Center, 1300 Pennsylvania Avenue, NW., Washington, DC. The meeting is tentatively scheduled to begin at 9:30 a.m. on April 21, and at 9 a.m. on April 22.

Topics for discussion include findings and votes on congressionally mandated studies on critical access hospitals; risk adjustment and other issues related to the adjusted average per capita cost (AAPCC); and handling costs of drugs in the hospital outpatient department. The Commission will also discuss and vote on recommendations related to Medicare Advantage plans, possible improvements in Medicare dialysis policy, and implementation issues with the new Medicare Part D benefit. Other topics will include: a study of outcomes and spending for beneficiaries who have had a hip or knee replaced, the use of clinical- and cost-effectiveness information by Medicare, hospital and physician efficiency measurement, and a discussion of Medicare physician fee schedule issues. MedPAC will also review CMS's preliminary estimate of the physician update for 2006.

Agendas will be e-mailed approximately one week prior to the meeting. The final agenda will be available on the Commission's Web site (http://www.MedPAC.gov).

ADDRESSES: MedPAC's address is: 601 New Jersey Avenue, NW., Suite 9000, Washington, DC 20001. The telephone number is (202) 220-3700.

FOR FURTHER INFORMATION CONTACT: Diane Ellison, Office Manager, (202) 220-3700.

Mark E. Miller,
Executive Director.

[FR Doc. 05-7728 Filed 4-15-05; 8:45 am]

BILLING CODE 6820-BW-M